DEPARTMENT OF ENERGY

Federal Energy Regulatory Commission

Combined Notice of Filings #1

Take notice that the Commission received the following electric corporate filings:

Docket Numbers: EC21-75-000.

Applicants: Waterbury Generation LLC, Hull Street Energy, LLC.

Description: Joint Application for Authorization Under Section 203 of the Federal Power Act of Waterbury Generation LLC, et al.

Filed Date: 04/09/2021.

Accession Number: 20210409-5357.

Comment Date: 5 p.m. ET 4/30/21.

Take notice that the Commission received the following exempt wholesale generator filings:

Docket Numbers: EG21-120-000.

Applicants: BMP Wind LLC.

Description: Notice of Self Certification of Exempt Wholesale Generator Status of BMP Wind LLC.

Filed Date: 4/12/21.

Accession Number: 20210412-5598.

Comments Due: 5 p.m. ET 5/3/21.

Take notice that the Commission received the following electric rate filings:

Docket Numbers: ER21-1657-000.

Applicants: PJM Interconnection, L.L.C.

Description: § 205(d) Rate Filing: Original ISA No. 6003; Queue No. AF1-102 to be effective 3/11/2021.

Filed Date: 4/12/21.

Accession Number: 20210412-5465.

Comments Due: 5 p.m. ET 5/3/21.

Docket Numbers: ER21-1658-000.

Applicants: Alabama Power Company.

Description: § 205(d) Rate Filing: Hobnail Solar LGIA Filing to be effective 3/29/2021.

Filed Date: 4/12/21.

Accession Number: 20210412-5625.

Comments Due: 5 p.m. ET 5/3/21.

Docket Numbers: ER21-1659-000.

Applicants: Ohio Power Company, AEP Ohio Transmission Company, Inc., American Electric Power Service Corporation, PJM Interconnection, L.L.C.

Description: § 205(d) Rate Filing: AEP submits the Hardin Solar FA re: ILDSA SA No. 1336 to be effective 6/12/2021.

Filed Date: 4/12/21.

Accession Number: 20210412-5636.

Comments Due: 5 p.m. ET 5/3/21.

Docket Numbers: ER21-1660-000.

Applicants: Arizona Public Service Company.

Description: § 205(d) Rate Filing: Service Agreement No. 363—Amendment Nos. 2 & 3 to be effective 5/15/2020.

Filed Date: 4/12/21.

Accession Number: 20210412-5681.

Comments Due: 5 p.m. ET 5/3/21.

Docket Numbers: ER21-1661-000.

Applicants: Arizona Public Service Company.

Description: Tariff Cancellation: Service Agreement No. 363—Notice of Cancellation to be effective 5/15/2021.

Filed Date: 4/12/21.

Accession Number: 20210412-5713.

Comments Due: 5 p.m. ET 5/3/21.

Docket Numbers: ER21-1662-000.

Applicants: Indianapolis Power & Light Company.

Description: Application to Modify Reactive Power and Voltage Control Revenue Requirement of Indianapolis Power & Light Company.

Filed Date: 04/09/2021.

Accession Number: 20210409-5382.

Comments Due: 5 p.m. ET 4/30/21.

Take notice that the Commission received the following electric securities filings:

Docket Numbers: ES21-36-000.

Applicants: El Paso Electric Company.

Description: Application Under Section 204 of the Federal Power Act for Authorization to Issue Securities of El Paso Electric Company.

Filed Date: 04/09/2021.

Accession Number: 20210409-5356.

Comments Due: 5 p.m. ET 4/30/21.

Docket Numbers: ES21-37-000.

Applicants: DTE Electric Company.

Description: Application under Section 204 of the Federal Power Act for Authorization to Issue Securities for DTE Electric Company.

Filed Date: 4/12/21.

Accession Number: 20210412-5518.

Comments Due: 5 p.m. ET 5/3/21.

Take notice that the Commission received the following PURPA 210(m)(3) filings:

Docket Numbers: QM21-16-000.

Applicants: Northern States Power Company, a Minnesota Corporation, Northern States Power Company, a Wisconsin Corporation.

Description: Application of Northern States Power Company, a Minnesota Corporation, et al. to Terminate Its Mandatory Purchase Obligation under the Public Utility Regulatory Policies Act of 1978.

Filed Date: 04/09/2021.

Accession Number: 20210409-5380.

Comments Due: 5 p.m. ET 5/7/21.

Docket Numbers: QM21-17-000.

Applicants: Arkansas Electric Cooperative Corporation.

Description: Application of Arkansas Electric Cooperative Corporation to Terminate Its Mandatory Purchase Obligation under the Public Utility Regulatory Policies Act of 1978.

Filed Date: 04/12/2021.

Accession Number: 20210412-5789.

Comments Due: 5 p.m. ET 5/10/21.

Docket Numbers: QM21-18-000.

Applicants: Arkansas Electric Cooperative Corporation.

Description: Application of Arkansas Electric Cooperative Corporation to Terminate its Mandatory Purchase Obligation under the Public Utility Regulatory Policies Act of 1978.

Filed Date: 04/12/2021.

Accession Number: 20210412-5796.

Comments Due: 5 p.m. ET 5/10/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2021.
Nathaniel J. Davis, Sr.,
Deputy Secretary.

[FR Doc. 2021-07834 Filed 4-15-21; 8:45 am]

BILLING CODE 6717-01-P